DEPARTMENT OF LABOR

Employee Benefits Security Administration

179th Meeting of the Advisory Council on Employee Welfare and Pension Benefit Plans; Notice of Meeting

Pursuant to the authority contained in Section 512 of the Employee Retirement Income Security Act of 1974 (ERISA), 29 U.S.C. 1142, the 179th open meeting of the Advisory Council on Employee Welfare and Pension Benefit Plans (also known as the ERISA Advisory Council) will be held on November 3-4, 2015.

The meeting will take place in C5320 Room 6, U.S. Department of Labor, 200 Constitution Avenue NW., Washington, DC 20210 on November 3, from 1 p.m. to approximately 5:00 p.m. On November 4, the meeting will start at 8:30 a.m. and conclude at approximately 4:00 p.m., with a break for lunch. The morning session on November 4 will be in C5320 Room 6. The afternoon session on November 4 will take place in Room S-2508 at the same address. The purpose of the open meeting on November 3 and the morning of November 4 is for the Advisory Council members to finalize the recommendations they will present to the Secretary. At the November 4 afternoon session, the Council members will receive an update from the Assistant Secretary of Labor for the Employee Benefits Security Administration (EBSA) and present their recommendations.

The Council recommendations will be on the following issues: (1) Model Notices and Plan Sponsor Education on Lifetime Plan Participation and (2) Model Notices and Disclosures for Pension Risk Transfers. Descriptions of these topics are available on the Advisory Council page of the EBSA Web site at http://www.dol.gov/ebsa/aboutebsa/erisa_advisory_council.html.

Organizations or members of the public wishing to submit a written statement may do so by submitting 30 copies on or before October 27, 2015 to Larry Good, Executive Secretary, ERISA Advisory Council, U.S. Department of Labor, Suite N-5623, 200 Constitution Avenue NW., Washington, DC 20210. Statements also may be submitted as email attachments in rich text, Word, or pdf format transmitted to good.larry@dol.gov. It is requested that statements not be included in the body of an email. Statements deemed relevant by the Advisory Council and received on or before October 27 will be included in the record of the meeting and will be available by contacting the EBSA Public Disclosure Room. Do not include any personally identifiable information (such as name, address, or other contact information) or confidential business information that you do not want publicly disclosed.

Individuals or representatives of organizations wishing to address the Advisory Council should forward their requests to the Executive Secretary or telephone (202) 693-8668. Oral presentations will be limited to ten minutes, time permitting, but an extended statement may be submitted for the record. Individuals with disabilities who need special accommodations should contact the Executive Secretary by October 27, 2015 at the address indicated.

Signed at Washington, DC, this 30th day of September, 2015.
Judy Mares,
Deputy Assistant Secretary, Employee Benefits Security Administration.

[FR Doc. 2015-25428 Filed 10-5-15; 8:45 am]

BILLING CODE 4510-29-P